SURFACE TRANSPORTATION BOARD

[Docket No. FD 36624]

Mountain Pacific Railroad LLC—Lease and Operation Exemption—Moss Landing Commercial Park LLC at Moss Landing, Monterey County, Cal.

Mountain Pacific Railroad LLC (MPR), a noncarrier, has filed a verified notice of exemption under 49 CFR 1150.31 to acquire by lease and operate approximately 6,818.7 feet of track, totaling 1.29 miles, located at Moss Landing Commercial Park, LLC (MLCP), Moss Landing, Monterey County, Cal. (the Line).

According to MPR, the Line is currently private track owned by MLCP. MPR states that it has entered into a lease agreement with MLCP under which MPR will operate and provide all rail common carrier service on the Line. The verified notice indicates that initial operations will consist of transloading propane from railcars into truck for local delivery.

MPR certifies that its projected annual revenues from this transaction will not result in its becoming a Class I or Class II rail carrier and will not exceed $5 million. MPR also certifies that the proposed transaction does not include an interchange commitment.

The transaction may be consummated on or after July 23, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than July 15, 2022 (at least seven days before the exemption becomes effective).

All pleadings, referring to Docket No. FD 36624, must be filed with the Surface Transportation Board either via e-filing on the Board's website or in writing addressed to 395 E Street SW, Washington, DC 20423-0001. In addition, a copy of each pleading must be served on MPR's representative, Thomas F. McFarland, Thomas F. McFarland, P.C., 2230 Marston Lane, Flossmoor, IL 60422-1336.

According to MPR, this action is categorically excluded from environmental review under 49 CFR 1105.6(c) and from historic preservation reporting requirements under 49 CFR 1105.8(b).

Board decisions and notices are available at www.stb.gov.

Decided: June 30, 2022.
By the Board, Mai T. Dinh, Director, Office of Proceedings.
Eden Besera,
Clearance Clerk.

[FR Doc. 2022-14536 Filed 7-7-22; 8:45 am]

BILLING CODE 4915-01-P